FEDERAL COMMUNICATIONS COMMISSION

47 CFR Part 73

[DA 00-2018; MM Docket No. 00-159, RM-9889; MM Docket No. 00-160; RM-9928; MM Docket No. 00-161; RM-9929]

Radio Broadcasting Services; Thermopolis and Story, WY; Pana, Taylorville and Macon, IL; Fort Bridger, WY and Woodruff, UT

AGENCY: Federal Communications Commission.

ACTION: Proposed rule.

SUMMARY: This document proposes three reallotments. The Commission requests comments on a petition filed by Legend Communications for Wyoming, L.L.C., proposing the substitution of Channel 252C1 for Channel 252C2 at Thermopolis, Wyoming, the reallotment of Channel 252C1 from Thermopolis to Story, Wyoming, and the modification of petitioner's construction permit (File No BPH-19971021MC) accordingly. Channel 251C1 can be reallotted to Story in compliance with the Commission's minimum distance separation requirements with a site restriction of 1.2 kilometers (0.8 miles) east at petitioner's requested site. The coordinates for Channel 252C1 at Story are 44-34-28 North Latitude and 106-52-14 West Longitude. In accordance with Section 1.420(i) of Commission's Rules, we will not accept competing expressions of interest for the use of Channel 252C1 at Story, Wyoming, or require petitioner to demonstrate the availability of an equivalent class channel for use by such parties. See SUPPLEMENTARY INFORMATION, infra.

DATES: Comments must be filed on or before October 23, 2000, and reply comments on or before November 7, 2000.

ADDRESSES: Federal Communications Commission, Washington, DC 20554. In addition to filing comments with the FCC, interested parties should serve the petitioner, his counsel, or consultant, as follows: Lee W. Shubert, Esq., Rosenman & Colin, LLP, 805 15th Street, NW, Washington, DC 20005-2212 (Counsel for Legend Communications for Wyoming, L.LC.); Patricia M. Chuh, Pepper & Corazzini, L.L.P., 1176 K Street, NW, Suite 200, Washington, DC 20006 (Counsel for Kaskaskia Broadcasting, Inc. and Miller Communications, Inc.); and Ellen Masters, Shaw Pittman, 2300 N Street, NW, Washington, DC 20037 (Counsel for M. Kent Frendsen).

FOR FURTHER INFORMATION CONTACT: Sharon P. McDonald, Mass Media Bureau, (202) 418-2180.

SUPPLEMENTARY INFORMATION: This is a synopsis of the Commission's Notice of Proposed Rule Making, MM Docket No. 00-159 and MM Docket No. 00-160, and MM Docket No. 00-161, adopted August 23, 2000, and released September 1, 2000. The full text of this Commission decision is available for inspection and copying during normal business hours in the FCC Reference Information Center (Room CY-A257), 445 12th Street, SW., Washington, DC. The complete text of this decision may also be purchased from the Commission's copy contractor, International Transcription Service, Inc., (202) 857-3800, 1231 20th Street, NW., Washington, DC 20036.

The Commission also requests comments on a petition filed jointly by Kaskaskia Broadcasting, Inc. and Miller Communications, Inc., proposing the reallotment of Channel 265A from Pana to Macon, Illinois, and the modification of Station WEGY(FM)'s license accordingly. Additionally, petitioners propose the reallotment of Channel 232A from Taylorville to Pana, Illinois, and the modification of Station WMKR(FM)'s license accordingly. Channel 265A can be reallotted to Macon in compliance with the Commission's minimum distance separation requirements with a site restriction of 6.9 kilometers (4.3 miles) south at Station WEGY(FM)'s requested site. The coordinates for Channel 265A at Macon are 39-41-08 North Latitude and 88-55-29 West Longitude. Additionally, Channel 232A can be reallotted to Pana in compliance with the minimum distance separation requirements with a site restriction of 11.7 kilometers (7.3 miles) west at Station WMKR(FM)'s requested site. The coordinates for Channel 262A at Pana 39-22-56 North Latitude and 89-12-56 West Longitude. In accordance with Section 1.420(i) of the Commission's Rules, we will not accept competing expressions of interest for the use of Channel 232A at Pana, Illinois or for Channel 265A at Macon, Illinois.

The Commission requests comments on a petition filed by M. Kent Frandsen proposing the reallotment of Channel 256C1 from Fort Bridger, Wyoming to Woodruff, Utah, and the modification of Station KNYN(FM)'s construction permit accordingly. Channel 256C1 can be reallotted to Woodruff in compliance with the Commission's minimum distance separation requirements with a site restriction of 28.2 kilometers (17.5 miles) southeast at petitioner's presently authorized site. The coordinates for Channel 256C1 at Woodruff are 41-21-10 North Latitude and 110-54-26 West Longitude. In accordance with Section 1.420(i) of the Commission's Rules, we will not accept competing expressions of interest in the use of Channel 256C1 at Woodruff, Utah.

Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

Federal Communications Commission.
John A. Karousos,
Chief, Allocations Branch, Policy and Rules Division, Mass Media Bureau.

[FR Doc. 00-23697 Filed 9-14-00; 8:45 am]

BILLING CODE 6712-01-P